DEPARTMENT OF COMMERCE

National Oceanic and Atmospheric Administration

Notice of Availability of a Final Programmatic Environmental Impact Statement for Surveying and Mapping Projects in U.S. Waters for Coastal and Marine Data Acquisition

AGENCY: National Ocean Service (NOS), National Oceanic and Atmospheric Administration (NOAA), Department of Commerce.

ACTION: Notice of availability of a final programmatic environmental impact statement.

SUMMARY: The National Oceanic and Atmospheric Administration, National Ocean Service has prepared a final programmatic environmental impact statement (PEIS) in accordance with the National Environmental Policy Act of 1969, as amended (NEPA), to analyze the potential environmental impacts associated with NOS' recurring data collection projects to characterize submerged features (e.g., habitat, bathymetry, marine debris). The “action area” for these projects encompasses the United States (U.S.) territorial sea, the contiguous zone, the U.S. Exclusive Economic Zone (U.S. EEZ), U.S. rivers, States' offshore waters, and coastal and riparian lands. As part of the Proposed Action, NOS may use active acoustic equipment such as sub-bottom profilers, single beam and multibeam echo sounders, side-scan sonars, and Acoustic Doppler Current Profilers. The Final PEIS analyzes NOS data collection projects for a time period of five years. In preparing the Final PEIS, NOS has considered public comments received on the Draft PEIS, which was published in June 2021.

DATES: NOS will publish a Record of Decision no sooner than 30 days after publication of the U.S. Environmental Protection Agency's Notice of Availability for this Final PEIS in the Federal Register.

ADDRESSES: The Final PEIS can be viewed or downloaded from the NOS website at https://oceanservice.noaa.gov/about/environmental-compliance/surveying-mapping.html.

FOR FURTHER INFORMATION CONTACT: Jay Nunenkamp, Environmental Compliance Coordinator, National Ocean Service, SSMC4, 1305 East West Highway, Silver Spring, MD 20910, nosaa.ec@noaa.gov, (302) 715-2405.

SUPPLEMENTARY INFORMATION: The Proposed Action analyzed in the Final PEIS is to continue NOS' surveying and mapping projects throughout the action area. The Final PEIS assesses the direct, indirect, and cumulative environmental impacts of a suite of surveying and mapping data collection activities.

The Final PEIS responds to, and incorporates where appropriate, agency and public comments received on the Draft PEIS, which was available for public review from June 25, 2021 to November 22, 2021. During the public comment period for the Draft PEIS, NOS received 31 comment submissions from 30 commenters via Regulations.gov and email. NOS responses to agency and public comments are provided in Appendix C of the Final PEIS.

NOS updated the Draft PEIS to include additional mitigation measures designed to minimize the impacts of surveying and mapping activities on the human environment. Additional mitigation measures incorporated into the Final PEIS are expected to result in a reduction of adverse environmental impacts analyzed in the Draft PEIS.

Due to the timing of the consultations and publication of the Final PEIS, the temporal scope of the Proposed Action has been reduced from six years (2022-2027) to five years (2023-2027). The annual numbers for project activities and project miles are expected to remain consistent with those estimated in the Draft PEIS; however, since the Final PEIS covers one less year than the Draft PEIS, the total estimated survey effort has decreased.

NOS has incorporated additional data sources into the calculations of marine mammal density, and made technical corrections to the acoustic exposure estimates. These data have been updated for the Final PEIS.

The Final PEIS evaluates three alternatives:

• Alternative A—No Action: Under Alternative A, NOS would continue to operate a variety of equipment and technologies to gather accurate and timely data on the nature and condition of the marine and coastal environment. This alternative reflects the technology, equipment, scope, and methods currently in use by NOS, at the level of effort reflecting NOS fiscal year 2019 funding levels. (NOS is using 2019 as the baseline year for funding, as that was the last year of normal NOS operations prior to COVID-19 disruptions.)

• Alternative B: This alternative consists of Alternative A plus the more widespread adoption of new techniques and technologies (such as remotely operated vehicles (ROVs), microwave water level (MWWL) sensors, etc.) to more efficiently perform surveying, mapping, charting and related data gathering. Specific examples of adaptive methods and equipment that NOS programs are likely to adopt under Alternative B in the next five years include:

○ Greater use of ROVs with echo sounder technologies;

○ Greater use of autonomous underwater vehicles (AUVs) and uncrewed surface vehicles (USVs) with echo sounder technologies;

○ Conversion of one or more existing 10-m (33 feet) crewed survey boats into USVs;

○ Greater use of more efficient, wide-beam sonar systems (phase-differencing bathymetric systems) for nearshore hydrographic surveys;

○ Increased field operations in the National Marine Sanctuary system with associated requirements for hydroacoustic charting, surveying, mapping and associated activities; and

○ Installation, operation, and maintenance of additional water level stations including transitioning to mostly MWWL sensors and upgraded storm strengthening to make stations more climate resilient.

Under Alternative B, all of the activities and equipment operation described in Alternative A would continue, many at a higher level of effort. The nature of these actions would not change, but the overall level of activity would be increased.

• Alternative C: Like Alternative B, Alternative C adopts new techniques and technologies to encourage greater program efficiencies regarding surveying, mapping, charting, and related data gathering activities. In addition, Alternative C would consist of NOS program implementation with an overall funding increase of 20 percent relative to Alternative B. Under Alternative C, all of the activities and equipment operation described in Alternative B would continue, many at a higher level of effort. The nature of these actions would not change, but the overall level of activity would be augmented.

NOS has identified Alternative B as the preferred alternative, which fully addresses the purpose and need of the Proposed Action.

NOS initiated consultations under the Magnuson-Stevens Fishery Conservation and Management Act for Essential Fish Habitat, Endangered Species Act, and National Marine Sanctuaries Act following publication of the Draft PEIS. NOS has also completed Federal consistency determinations to comply with Section 307 of the Coastal Zone Management Act (CZMA) and has received concurrence responses from several States. Under the Marine Mammal Protection Act, NOS has submitted an application for a Letter of Authorization to the National Marine Fisheries Service, and an Incidental Take Regulation request to the U.S. Fish and Wildlife Service. NOS will initiate consultation under the National Historic Preservation Act prior to conducting individual projects that may affect cultural and historic properties.

Public Review

We are not requesting public comments on the FEIS, but any written comments we receive will become part of the public record associated with this action. The entirety of the comment, including the name of the commenter, email address, attachments, and other supporting materials, will be publicly accessible. Sensitive personal information, such as account numbers or Social Security numbers, should not be included with the comment. Comments that are not responsive or that contain profanity, vulgarity, threats, or other inappropriate language will not be considered.

Authority: The preparation of the Final PEIS was conducted in accordance with the requirements of NEPA, the Council on Environmental Quality's Regulations (40 CFR 1500 et seq. (1978)), other applicable regulations, and NOAA's policies and procedures for compliance with those regulations. While the CEQ regulations implementing NEPA were revised as of September 14, 2020 (85 FR 43304, July 16, 2020), and further revised as of May 20, 2022 (87 FR 23453, April 20, 2022), NOS prepared this Final PEIS using the 1978 CEQ regulations because this environmental review began on December 19, 2016, when NOS published a Notice of Intent to prepare a NEPA document for its mapping program.

Nicole R. LeBoeuf,
Assistant Administrator for Ocean Services and Coastal Zone Management, National Ocean Service, National Oceanic and Atmospheric Administration.

[FR Doc. 2022-25309 Filed 11-23-22; 8:45 am]

BILLING CODE 3510-JE-P